DEPARTMENT OF ENERGY

Federal Energy Regulatory Commission

[Project No. 7656-013]

John A. Dodson; Notice of Meeting

a. Project Name and Number: Buttermilk Falls Project No. 7656.

b. Date and Time of Meeting: November 30, 2016, 2:00 p.m.-3:00 p.m. EST.

c. Place: Teleconference.

d. FERC Contact: Ashish Desai, Ashish.Desai@ferc.gov, (202) 502-8370.

e. Purpose of Meeting: Commission staff is holding the teleconference to discuss potentially the rerouting of the penstock, repairing the powerhouse, and the property rights of lands within the project boundary. In addition, staff will discuss the application to transfer the project license from Mr. John A. Dodson to the Village of Highland Falls—High Point Utility.

f. All local, state, and federal agencies, Indian tribes, and other interested parties are invited to participate by phone. Please call Ashish Desai at (202) 502-8370 or email at Ashish.Desai@ferc.gov by November 25, 2016 to receive specific instructions on how to participate.

Dated: October 26, 2016.
Nathaniel J. Davis, Sr.,
Deputy Secretary.

[FR Doc. 2016-26590 Filed 11-2-16; 8:45 am]

BILLING CODE 6717-01-P